DEPARTMENT OF AGRICULTURE

Food and Nutrition Service

Agency Information Collection Activities: Proposed Collection; Comment Request—Special Supplemental Nutrition Program for Women, Infants, and Children (WIC) Infant and Toddler Feeding Practices Study-2 (WIC ITFPS-2) Age 6 Extension Study

AGENCY: Food and Nutrition Service (FNS), USDA.

ACTION: Notice.

SUMMARY: In accordance with the Paperwork Reduction Act of 1995, this notice invites the general public and other public agencies to comment on this proposed information collection. This collection is a revision of the currently approved Special Supplemental Nutrition Program for Women, Infants, and Children (WIC) Infant and Toddler Feeding Practices 2 Study (ITFPS-2) [OMB Control Number 0584-0580]. The revision is to extend data collection on the original cohort of study participants by an additional year, to their 6th birthdays and therefore one year after the end of their period of eligibility for WIC services. The data will be used to estimate the type and prevalence of various feeding practices among children who received WIC program benefits, after their program eligibility ends. This study will also examine the circumstances and influences that shape caregivers' feeding decisions for their children, and will describe the impact of childhood WIC participation on subsequent dietary and health outcomes.

DATES: Written comments must be received on or before July 2, 2018.

ADDRESSES: Comments may be sent to: Courtney Paolicelli, DrPH, RDN, Social Science Research Analyst, Office of Policy Support, Food and Nutrition Service, USDA, 3101 Park Center Drive, Room 1014, Alexandria, VA 22302. Comments may also be submitted via fax to the attention of Danielle Berman at 703-305-2698 or via email to danielle.berman@fns.usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Danielle Berman at 703-305-2698.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Special Supplemental Nutrition Program for Women, Infants, and Children (WIC) Infant and Toddler Feeding Practices Study-2 (ITFPS-2) Age 6 Extension.

Form Number: N/A.

OMB Number: 0584-0580.

Expiration Date of Approval: 07/31/2019.

Type of request: Revision of a currently approved collection.

Abstract: The USDA Food and Nutrition Service's (FNS) WIC ITFPS-2 will provide information on the feeding practices of children who received WIC benefits, from birth up to 5 years of age. The proposed revision will extend the longitudinal data collection of the current cohort of study participants up to 6 years of age, one year after the end of their eligibility for WIC services. This proposed extension is needed to understand the nutrition, health outcomes, and family feeding practices of children in this key period after WIC program eligibility ends. The results will assist in the development of appropriate and effective prevention strategies to improve the health of young children. With nearly 50 percent of US infants participating in WIC, it is hoped that prevention strategies implemented in WIC will have a substantial impact on the growth and health of U.S. infants and children.

The study activities subject to this notice include: Informing 27 WIC State Agencies and 80 local WIC sites that the study has been extended for an additional year, and their role in the study's extension; contacting 4,046 caregivers between the 60 and 72 month interviews, to notify them of the extension and provide consent and study reminders; administering an additional telephone interview to caregivers of children enrolled in the study when their child is 72-months old; administering a second dietary intake interview to a subsample of caregivers who complete the first interview; and obtaining their child's height and weight measurements at 72 months from caregiver's provision to the study of health care provider measurements, or from direct measurements taken at WIC sites.

The WIC State Agency and local WIC site staff will be invited to participate in a webinar that will highlight key study findings to date (from reports approved and published by FNS) and describe the study extension to age 6. The 27 State Agencies and 80 sites will participate in conference calls to discuss the follow-up activities.

Each study participant will receive a letter about the study extension. Prior to being contacted for the 72-month telephone interview, the caregiver for each child in the cohort will be mailed an advance letter that includes a toll-free number to call for questions or to complete the interview. Participants will receive periodic mailings, calls, emails, and text messages reminding them of the upcoming 72 month interview and height and weight (H/W) measurement. Children's H/W measures will come from provider records supplied by caregivers, or WIC site staff will weigh and measure study children at age 72 months. WIC site staff will also provide updated contact information on study participants who are still in contact with WIC when requested.

Affected Public: Respondent groups identified include: (1) Individuals/Households, including caregivers of children formerly on WIC; and (2) State, Local, or Tribal government, including WIC State Agency staff from 27 states and territories, and local site staff from 80 WIC sites.

Estimated Number of Respondents: The total estimated number of respondents is 5,220. This includes 2,969 caregivers of children formerly receiving WIC who originally enrolled in the study; 27 WIC State Agency points-of-contact; 80 local WIC site staff members; and 2,144 non-respondents.

Estimated Number of Responses per Respondent: Caregivers of former WIC children will be asked to respond to: 1 study extension letter; 1 informed consent; 1 advance letter; 1 main telephone survey; 1 replicate dietary intake telephone survey; 1 child height/weight measurement; 2 interview reminders; 1 height and weight measurement reminder; 1 thank-you message; 2 birthday cards, for a total of 9 responses. WIC State Agency points-of-contact will respond to 1 study extension webinar; 1 conference call; and 1 written summary of the study extension and agreed upon activities, for a total of 3 responses. WIC local site points-of-contact will respond to 1 study extension webinar; 1 conference call; 1 written summary of the study extension and agreed upon activities; 15 requests for contact information for caregivers; and 9 child height/weight measurements, for a total of 27 responses. The estimated number of responses per respondent across the entire collection, including the non-respondents, is 7 responses.

Estimated Total Annual Responses: 36,664 total responses (total responses from respondents and non-respondents).

Estimated Time per Response: The estimated time per response varies from less than one minute to 60 minutes, depending on the activity and respondent type. The average estimated time per response is .11 hours for all participants.

Estimated Total Annual Burden on Respondents: 3,983.36 hours. See Table 1 below for estimated burden by respondent type.

Dated: April 18, 2018.
Brandon Lipps,
Administrator, Food and Nutrition Service.

[FR Doc. 2018-09216 Filed 4-30-18; 8:45 am]

BILLING CODE 3410-30-P